DEPARTMENT OF ENERGY

Federal Energy Regulatory Commission

[Project No. 137-002]

Pacific Gas & Electric Company; Notice of Meeting

March 1, 2000.

Take notice there will be a meeting of the Recreation subgroup of the Mokelumne Relicensing Collaborative on March 7, 2000, from 9 a.m. to 4 p.m. at the PG&E offices, 2740 Gateway Oaks Drive, in Sacramento, California. Expected participants need to give their names to David Moller (PG&E) at (415) 973-4696.

For further information, please contact Diana Shannon at (202) 208-7774.

David P. Boergers.
Secretary.

[FR Doc. 00-5443 Filed 3-6-00; 8:45 am]

BILLING CODE 6717-01-M